DEPARTMENT OF DEFENSE

Office of the Secretary

[Transmittal No. 21-0N]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives, Transmittal 21-0N.

Dated: April 19, 2023.
Aaron T. Siegel,
Alternate OSD Federal Register Liaison Officer, Department of Defense.

BILLING CODE 5001-06-P

BILLING CODE 5001-06-C

Transmittal No. 21-0N

REPORT OF ENHANCEMENT OR UPGRADE OF SENSITIVITY OF TECHNOLOGY OR CAPABILITY (SEC. 36(B)(5)(C), AECA)

(i) Purchaser: Government of Australia

(ii) Sec. 36(b)(l), AECA Transmittal No.: 12-27

Date: May 22, 2012

Military Department: Navy

(iii) Description: On May 22, 2012, Congress was notified by Congressional certification transmittal number 12-27 of the possible sale, under Section 36(b)(l) of the Arms Export Control Act, of 12 EA-18G Modification Kits to convert F/A-18F aircraft to G configuration, (34) AN/ALQ-99F(V) Tactical Jamming System Pods, (22) CN-1717/A Interference Cancellation Systems (INCANS), (22) R-2674(C)/A Joint Tactical Terminal Receiver (JTTR) Systems, (30) LAU-118 Guided Missile Launchers, Command Launch Computer (CLC) for High Speed Anti-Radiation Missile (HARM) and Advanced Anti-Radiation Guided Missile (AARGM, spare and repair parts, support and test equipment, publications and technical documentation, personnel training and training equipment, U.S. Government (USG) and contractor engineering, technical, and logistics support services, and other related elements of logistical and program support. The estimated total cost was $1.7 billion. Major Defense Equipment (MDE) constituted $1 billion of this total.

This transmittal notifies the inclusion of the following MDE items: three (3) R-2718(C)/A Joint Tactical Terminal Receivers (JTTR); AN/ALQ-99 components, two (2) Low Band transmitters; two (2) Low Band transmitter VPOL antennas; eighteen (18) Band 4 transmitters; nine (9) Band 5/6 transmitters; twenty (20) Band 7 transmitters; thirteen (13) Band 8 transmitters; three (3) hardbacks; six (6) Universal High Band Radomes (UHBR); and one (1) G Extended Low Band Radomes (GELBR). Non-MDE items include transmitter shipping containers and VPOL shipping containers.

The overall MDE value will increase by $50 million to $1.05 billion. The total estimated case value will increase to $1.75 billion.

(iv) Significance: This proposed sale will allow Australia to effectively maintain its current force projection capability that enhances interoperability with U.S. forces well into the future.

(v) Justification: This proposed sale supports the foreign policy and national security objectives of the United States by improving the security of a Major Non-NATO Ally that is a key partner of the United States in ensuring peace and stability around the world.

(vi) Sensitivity of Technology:

The R-2718(C)/A JTTR System and associated hardware provides eight receive channels that enable the aircraft to access near real-time threat, survivor and Blue Force Tracking data that will be transmitted to the pilot, thereby increasing the users' critical situational awareness.

AN/ALQ-99F(V) Tactical Jamming System pod is equipped with a hardback that supports fore and aft transmitters, a nose-mounted Ram Air Turbine (RAT), a centrally-mounted Universal Exciter Unit (UEU), a pod control unit, and two steerable high-gain transmission arrays. The TJS Pod receives threat parameter data and generates an appropriate response by modulating a radio frequency oscillator.

The highest level of classification of defense articles, components, and services included in this potential sale is SECRET.

(vii) Date Report Delivered to Congress: December 20, 2021

[FR Doc. 2023-08581 Filed 4-21-23; 8:45 am]

BILLING CODE 5001-06-P